NUCLEAR REGULATORY COMMISSION

[Docket Nos. 50-338, 50-339, 50-280, and 50-281]

Virginia Electric and Power Company, North Anna Power Station, Unit Nos. 1 and 2, and Surry Power Station, Unit Nos. 1 and 2; Notice of Issuance of Renewed Facility Operating License Nos. NPF-4, NPF-7, DPR-32, and DPR-37 for an Additional 20-Year Period

Notice is hereby given that the U.S. Nuclear Regulatory Commission (the Commission) has issued Renewed Facility Operating License Nos. NPF-4, NPF-7, DPR-32, and DPR-37 to Virginia Electric and Power Company (the licensee), the operator of the North Anna Power Station, Unit Nos. 1 and 2 (North Anna, Units 1 and 2), and Surry Power Station, Unit Nos. 1 and 2 (Surry, Units 1 and 2). Renewed Facility Operating License No. NPF-4 authorizes operation of North Anna, Unit 1, by the licensee at reactor core power levels not in excess of 2893 megawatts thermal in accordance with the provisions of the North Anna, Unit 1, renewed license and its Technical Specifications. Renewed Facility Operating License No. NPF-7 authorizes operation of North Anna, Unit 2, by the licensee at reactor core power levels not in excess of 2893 megawatts thermal in accordance with the provisions of the North Anna, Unit 2, renewed license and its Technical Specifications. Renewed Facility Operating License No. DPR-32 authorizes operation of Surry, Unit 1, by the licensee at reactor core power levels not in excess of 2546 megawatts thermal in accordance with the provisions of the Surry, Unit 1, renewed license and its Technical Specifications. Renewed Facility Operating License No. DPR-37 authorizes operation of Surry, Unit 2, by the licensee at reactor core power levels not in excess of 2546 megawatts thermal in accordance with the provisions of the Surry, Unit 2, renewed license and its Technical Specifications.

North Anna, Units 1 and 2, are pressurized water nuclear reactors located in Louisa County, 40 miles northwest of the city of Richmond, Virginia. Surry, Units 1 and 2, are pressurized water nuclear reactors located in Surry County, 14 miles northwest of the city of Newport News, Virginia.

The applications for the renewed licenses complied with the standards and requirements of the Atomic Energy Act of 1954, as amended (the Act), and the Commission's regulations. As required by the Act and the Commission's regulations in 10 CFR Chapter I, the Commission has made appropriate findings, which are set forth in each license. Prior public notice of the action involving the proposed issuance of these renewed licenses and of an opportunity for a hearing regarding the proposed issuance of these renewed licenses was published in the Federal Register on July 27, 2001 (66 FR 39213).

For further details with respect to this action, see (1) the Virginia Electric and Power Company's license renewal applications for North Anna, Units 1 and 2, and Surry, Units 1 and 2, dated May 29, 2001, as supplemented by letters dated November 30, 2001, January 4 (two letters), January 16, January 17, February 1 (two letters), February 5, May 22 (two letters), June 13, July 11, July 25, August 23, October 1, October 15, November 4, December 2, and December 11, 2002; (2) the Commission's safety evaluation report, dated November 5, 2002, and December 2002 (NUREG-1766); (3) the licensee's updated final safety analysis report; and (4) the Commission's final environmental impact statements (NUREG-1437, Supplement 6, for Surry, Units 1 and 2, and NUREG-1437, Supplement 7, for North Anna, Units 1 and 2), dated November 2002. These documents are available at the NRC's Public Document Room, One White Flint North, 11555 Rockville Pike, first floor, Rockville, Maryland 20852, and can be viewed from the NRC Public Electronic Reading Room at http://www.nrc.gov/reading-rm/adams.html.

Copies of Renewed Facility Operating License Nos. NPF-4, NPF-7, DPR-32, and DPR-37 may be obtained by writing to the U.S. Nuclear Regulatory Commission, Washington, DC 20555-0001, Attention: Director, Division of Regulatory Improvement Programs. Copies of the safety evaluation report (NUREG-1766), and the final environmental impact statements (NUREG-1437, Supplement 6, for Surry, Units 1 and 2, and NUREG-1437, Supplement 7, for North Anna, Units 1 and 2) may be purchased from the National Technical Information Service, Springfield, Virginia 22161-0002 (http://www.ntis.gov), 1-800-553-6847, or the Superintendent of Documents, U.S. Government Printing Office, PO Box 371954, Pittsburgh, PA 15250-7954 (http://www.access.gpo.gov/su_docs), 202-512-1800. All orders should clearly identify the NRC publication number and the requestor's Government Printing Office deposit account number or VISA or MasterCard number and expiration date.

Dated at Rockville, Maryland, this 20th day of March 2003.
For the Nuclear Regulatory Commission.
Pao-Tsin Kuo,
Program Director, License Renewal and Environmental Impacts, Division of Regulatory Improvement Programs, Office of Nuclear Reactor Regulation.

[FR Doc. 03-7486 Filed 3-27-03; 8:45 am]

BILLING CODE 7590-01-U